DEPARTMENT OF COMMERCE

Foreign-Trade Zones Board

[S-92-2015]

Approval of Expansion of Subzone 92A; VT Halter Marine, Inc.; Pascagoula, Mississippi

On June 19, 2015, the Acting Executive Secretary of the Foreign-Trade Zones (FTZ) Board docketed an application submitted by the Mississippi Coast Foreign Trade Zone, Inc., grantee of FTZ 92, requesting an additional site within Subzone 92A on behalf of VT Halter Marine, Inc., located in Pascagoula, Mississippi. The expanded subzone would be subject to the existing activation limit of FTZ 92.

The application was processed in accordance with the FTZ Act and Regulations, including notice in the Federal Register inviting public comment (80 FR 36506-36507, 06-25-2015). The FTZ staff examiner reviewed the application and determined that it meets the criteria for approval.

Pursuant to the authority delegated to the FTZ Board's Executive Secretary (15 CFR Sec. 400.36(f)), the application to expand Subzone 92A is approved, subject to the FTZ Act and the Board's regulations, including section 400.13, and with the overall subzone subject to FTZ 92's 2,000-acre activation limit.

Dated: August 11, 2015.
Andrew McGilvray,
Executive Secretary.

[FR Doc. 2015-20268 Filed 8-14-15; 8:45 am]

BILLING CODE 3510-DS-P